DEPARTMENT OF TRANSPORTATION

Federal Aviation Administration

14 CFR Part 97

[Docket No. 30433; Amdt. No. 3112]

Standard Instrument Approach Procedures; Miscellaneous Amendments

AGENCY: Federal Aviation Administration (FAA), DOT.

ACTION: Final rule.

SUMMARY: This amendment establishes, amends, suspends, or revokes Standard Instrument Approach Procedures (SIAPs) for operations at certain airports. These regulatory actions are needed because of the adoption of new or revised criteria, or because of changes occurring in the National Airspace System, such as the commissioning of new navigational facilities, addition of new obstacles, or changes in air traffic requirements. These changes are designed to provide safe and efficient use of the navigable airspace and to promote safe flight operations under instrument flight rules at the affected airports.

DATES: This rule is effective January 5, 2005. The compliance date for each SIAP is specified in the amendatory provisions.

The incorporation by reference of certain publications listed in the regulations is approved by the Director of the Federal Register as of January 5, 2005.

ADDRESSES: Availability of matters incorporated by reference in the amendment is as follows:

For Examination—

1. FAA Rules Docket, FAA Headquarters Building, 800 Independence Avenue, SW., Washington, DC 20591;

2. The FAA Regional Office of the region in which the affected airport is located;

3. The Flight Inspection Area Office which originated the SIAP; or,

4. The National Archives and Records Administration (NARA). For information on the availability of this material at NARA, call 202-741-6030, or go to: http://www.archives.gov/federal_register/code_of_federal_regulations/ibr_locations.html.

For Purchase—Individual SIAP copies may be obtained from:

1. FAA Public Inquiry Center (APA-200), FAA Headquarters Building, 800 Independence Avenue, SW., Washington, DC 20591; or

2. The FAA Regional Office of the region in which the affected airport is located.

By Subscription—Copies of all SIAPs, mailed once every 2 weeks, are for sale by the Superintendent of Documents, U.S. Government Printing Office, Washington, DC 20402.

FOR FURTHER INFORMATION CONTACT: Donald P. Pate, Flight Procedure Standards Branch (AMCAFS-420), Flight Technologies and Programs Division, Flight Standards Service, Federal Aviation Administration, Mike Monroney Aeronautical Center, 6500 South MacArthur Blvd., Oklahoma City, OK 73169 (Mail Address: P.O. Box 25082, Oklahoma City, OK 73125), telephone: (405) 954-4164.

SUPPLEMENTARY INFORMATION: This amendment to part 97 of the Federal Aviation Regulations (14 CFR part 97) establishes, amends, suspends, or revokes Standard Instrument Approach Procedures (SIAPs). The complete regulatory description of each SIAP is contained in official FAA form documents which are incorporated by reference in this amendment under 5 U.S.C. 552(a), 1 CFR part 51, and § 97.20 of the Federal Aviation Regulations (FAR). The applicable FAA Forms are identified as FAA Forms 8260-3, 8260-4, and 8260-5. Materials incorporated by reference are available for examination or purchase as stated above.

The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained in FAA form documents is unnecessary. The provisions of this amendment state the affected CFR (and FAR) sections, with the types and effective dates of the SIAPs. This amendment also identifies the airport, its location, the procedure identification and the amendment number.

The Rule

This amendment to part 97 is effective upon publication of each separate SIAP as contained in the transmittal. Some SIAP amendments may have been previously issued by the FAA in a National Flight Data Center (NFDC) Notice to Airmen (NOTAM) as an emergency action of immediate flight safety relating directly to published aeronautical charts. The circumstances which created the need for some SIAP amendments may require making them effective in less than 30 days. For the remaining SIAPs, an effective date at least 30 days after publication is provided.

Further, the SIAPs contained in this amendment are based on the criteria contained in the U.S. Standard for Terminal Instrument Procedures (TERPS). In developing these SIAPs, the TERPS criteria were applied to the conditions existing or anticipated at the affected airports. Because of the close and immediate relationship between these SIAPs and safety in air commerce, I find that notice and public procedure before adopting these SIAPs are impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, and Navigation (Air).

Issued in Washington, DC, on December 3, 2004.
James J. Ballough,
Director, Flight Standards Service.

Adoption of the Amendment

Accordingly, pursuant to the authority delegated to me, part 97 of the Federal Aviation Regulations (14 CFR part 97) is amended by establishing, amending, suspending, or revoking Standard Instrument Approach Procedures, effective at 0901 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

* * * Effective 20 January 2005

Lompoc, CA, Lompoc, VOR/DME-A, Amdt 5

Lompoc, CA, Lompoc, RNAV (GPS) RWY 25, Orig

Lompoc, CA, Lompoc, GPS RWY 25, Orig, CANCELLED

Washington, DC, Washington Dulles Intl, ILS OR LOC/DME RWY 19R, Amdt 23 and ILS RWY 19R (CAT II/III), Amdt 23

Washington, DC, Washington Dulles Intl, Converging ILS RWY 19R, Amdt 6

Washington, DC, Washington Dulles Intl, RNAV (GPS) RWY 19R, Amdt 1

Wichita, KS, Colonel James Jabara, RNAV (GPS) RWY 18, Orig

Wichita, KS, Colonel James Jabara, RNAV (GPS) RWY 36, Orig

Wichita, KS, Colonel James Jabara, GPS RWY 18, Orig-A, CANCELLED

Wichita, KS, Colonel James Jabara, GPS RWY 36, Orig, CANCELLED

Wichita, KS, Colonel James Jabara, VOR-A, Amdt 4

Wichita, KS, Colonel James Jabara, RNAV (GPS)-E, Orig

Covington, KY, Cincinnati/Northern Kentucky Intl, ILS OR LOC RWY 9, Amdt 17

Covington, KY, Cincinnati/Northern Kentucky Intl, ILS OR LOC RWY 27, Amdt 16

Oakdale, LA, Allen Parrish, RNAV (GPS) RWY 36, Orig

Gulfport, MS, Gulfport-Biloxi Intl, VOR/DME OR TACAN RWY 32, Amdt 4

Gulfport, MS, Gulfport-Biloxi Intl, VOR RWY 14, Amdt 22

Gulfport, MS, Gulfport-Biloxi Intl, VOR/DME OR TACAN RWY 14, Amdt 3

Gulfport, MS, Gulfport-Biloxi Intl, NDB RWY 14, Amdt 12

Gulfport, MS, Gulfport-Biloxi Intl, RADAR-1, Amdt 6

Gulfport, MS, Gulfport-Biloxi Intl, RNAV (GPS) RWY 14, Orig

Gulfport, MS, Gulfport-Biloxi Intl, RNAV (GPS) RWY 32, Orig

Gulfport, MS, Gulfport-Biloxi Intl, ILS OR LOC RWY 14, Amdt 14

Gulfport, MS, Gulfport-Biloxi Intl, GPS RWY 14, Orig, CANCELLED

Gulfport, MS, Gulfport-Biloxi Intl, GPS RWY 18, Orig, CANCELLED

Gulfport, MS, Gulfport-Biloxi Intl, GPS RWY 32, Orig, CANCELLED

Gulfport, MS, Gulfport-Biloxi Intl, GPS RWY 36, Orig, CANCELLED

Gulfport, MS, Gulfport-Biloxi Intl, VOR RWY 32, Amdt 21

Gulfport, MS, Gulfport-Biloxi Intl, RNAV (GPS) RWY 18, Orig

Gulfport, MS, Gulfport-Biloxi Intl, RNAV (GPS) RWY 36, Orig

Gulfport, MS, Gulfport-Biloxi Intl, ILS OR LOC/DME RWY 32, Amdt 4

Tunica, MS, Tunica Muni, ILS OR LOC RWY 35, Orig

Fargo, ND, Hector Intl, RNAV (GPS) RWY 18, Orig

Fargo, ND, Hector Intl, RNAV (GPS) RWY 36, Orig

Fargo, ND, Hector Intl, RNAV (GPS) RWY 17, Orig, CANCELLED

Fargo, ND, Hector Intl, RNAV (GPS) RWY 35, Orig-B, CANCELLED

Lexington, OR, Lexington, RNAV (GPS)-A, Orig

Lexington, OR, Lexington, RNAV (GPS) RWY 8, Orig

* * * Effective 17 February 2005

Hayden, CO, Yampa Valley, RNAV (GPS) RWY 28, Orig-B

Hayden, CO, Yampa Valley, RNAV (GPS) Z RWY 10, Orig-B

Lamar, CO, Lamar Muni, RNAV (GPS) RWY 8, Orig-A

Lamar, CO, Lamar Muni, RNAV (GPS) RWY 18, Orig-A

Lamar, CO, Lamar Muni, RNAV (GPS) RWY 26, Orig-A

Lamar, CO, Lamar Muni, RNAV (GPS) RWY 36, Orig-A

Boise, ID, Boise Air Terminal (Gowen Field), RNAV (GPS) RWY 28R, Orig-A

Boise, ID, Boise Air Terminal (Gowen Field), RNAV (GPS) RWY 28L, Amdt 1A

Bozeman, MT, Gallatin Field, RNAV (GPS)-A, Orig-A

Akron, OH, Akron-Canton Regional, RNAV (GPS) RWY 14, Orig, CANCELLED

Akron, OH, Akron-Canton Regional, RNAV (GPS) RWY 32, Orig, CANCELLED

McAlester, OK, McAlester Regional, VOR-A, Amdt 13

Sioux Falls, SD, Joe Foss Field, RNAV (GPS) RWY 15, Orig-B

* * * Effective 17 March 2005

Kotzebue, AK, Ralph Wien Memorial, RNAV (GPS) RWY 8, Orig

Kotzebue, AK, Ralph Wien Memorial, RNAV (GPS) RWY 26, Orig

Kotzebue, AK, Ralph Wien Memorial, ILS OR LOC/DME RWY 8, Orig

Kotzebue, AK, Ralph Wien Memorial, VOR RWY 8, Amdt 3A

Kotzebue, AK, Ralph Wien Memorial, VOR RWY 26, Amdt 3

Kotzebue, AK, Ralph Wien Memorial, VOR/DME RWY 8, Amdt 4

Kotzebue, AK, Ralph Wien Memorial, VOR/DME Z RWY 26, Orig

Kotzebue, AK, Ralph Wien Memorial, VOR/DME Y RWY 26, Orig

Kotzebue, AK, Ralph Wien Memorial, ILS/DME RWY 8, Amdt 5, CANCELLED

Kotzebue, AK, Ralph Wien Memorial, GPS RWY 8, Orig, CANCELLED

Kotzebue, AK, Ralph Wien Memorial, GPS RWY 26, Orig-A, CANCELLED

Kotzebue, AK, Ralph Wien Memorial, VOR/DME 2 RWY 26, Orig, CANCELLED

Kotzebue, AK, Ralph Wien Memorial, VOR/DME RWY 26, Amdt 1B, CANCELLED

San Jose, CA, Norman Y. Mineta San Jose Intl, RNAV (GPS) RWY 12R, Orig

San Jose, CA, Norman Y. Mineta San Jose Intl, GPS RWY 12R, Orig-A, CANCELLED

San Jose, CA, Norman Y. Mineta San Jose Intl, RNAV (GPS) RWY 30L, Orig

San Jose, CA, Norman Y. Mineta San Jose Intl, GPS RWY 30L, Orig-A, CANCELLED

Eastport, ME, Eastport Muni, RNAV (GPS) RWY 15, Orig

Eastport, ME, Eastport Muni, RNAV (GPS) RWY 33, Orig

Eastport, ME, Eastport Muni, NDB RWY 15, Amdt 1

Eastport, ME, Eastport Muni, NDB RWY 33, Amdt 1

Eastport, ME, Eastport Muni, GPS RWY 15, Orig-B, CANCELLED

Oshkosh, WI, Wittman Regional, RNAV (GPS) RWY 36, Amdt 1C

Casper, WY, Natrona County Intl, RNAV (GPS) RWY 21, Amdt 1

Casper, WY, Natrona County Intl, VOR/DME RWY 3, Amdt 4

Casper, WY, Natrona County Intl, VOR/DME OR TACAN RWY 21, Amdt 8

The FAA published an Amendment in Docket No. 30430, Amdt No. 3110 to Part 97 of the Federal Aviation Regulations (Vol 69, FR No. 229, page 69508; dated November 30, 2004) under section 97.33 effective 20 JAN 2005, which is hereby rescinded:

Deadhorse, AK, Deadhorse, LOC/DME BC RWY 22, Amdt 10

[FR Doc. 05-106 Filed 1-4-05; 8:45 am]

BILLING CODE 4910-13-P